FEDERAL COMMUNICATIONS COMMISSION

Notice of Public Information Collection(s) Being Reviewed by the Federal Communications Commission

October 27, 2006.

SUMMARY: The Federal Communications Commission, as part of its continuing effort to reduce paperwork burden, invites the general public and other Federal agencies to take this opportunity to comment on the following information collection(s), as required by the Paperwork Reduction Act of 1995 (PRA), Public Law 104-13. An agency may not conduct or sponsor a collection of information unless it displays a current valid control number. No person shall be subject to any penalty for failing to comply with a collection of information subject to the PRA that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before January 8, 2007. If you anticipate that you will be submitting comments, but find it difficult to do so within the period of time allowed by this notice, you should advise the contact listed below as soon as possible.

ADDRESSES: Direct all PRA comments to Les Smith, Federal Communications Commission, Room 1-C216, 445 12th Street, SW., Washington, DC 20554, or via the Internet to PRA@fcc.gov.

FOR FURTHER INFORMATION CONTACT: For additional information or copies of the information collection(s) contact Les Smith at (202) 418-0217 or via the Internet at PRA@fcc.gov.

SUPPLEMENTARY INFORMATION: OMB Control Number: 3060-1084.

Title: Rules and Regulations Implementing Minimum Customer Account Record Exchange Obligations on All Local and Interexchange Carriers (CARE).

Form Number: N/A.

Type of Review: Revision to a currently approved collection.

Respondents: Business or other for-profit entities.

Number of Respondents: 1,778.

Estimated Time per Response: 0.75 to 6.70 hours.

Frequency of Response: Recordkeeping; Annual reporting requirements.

Total Annual Burden: 44,576 hours.

Total Annual Cost: None.

Privacy Impact Assessment: No impact(s).

Needs and Uses: In addition to the existing information collection requirements that were previously approved by OMB, in the Order on Reconsideration, In the Matter of Rules and Regulations Implementing Minimum Customer Account Record Exchange Obligations on All Local and Interexchange Carriers (2005 Report and Order), CG Docket No. 02-386, FCC 06-134, which was released on September 13, 2006, the Commission concluded that minor modifications to 47 CFR 64.4002 are needed to clarify carriers' respective obligations under that rule section.

Paragraph 64.4002(d) is modified to require that a LEC notify an IXC when the LEC has removed at its local switch a presubscribed customer of the IXC in connection with the customer's selection of “no-PIC” status. In this context, the selection of “no-PIC” status by the customer refers to the selection of no carrier for interLATA service or no carrier for intraLATA service. The Commission concludes that this modification is needed to ensure that an IXC does not continue billing a customer for non-usage-related monthly charges where that customer has contacted his current LEC or his current IXC to select “no-PIC” status.

Paragraph 64.4002(e) of the Commission's rules is modified to include the effective date of any changes to a customer's local service account and the carrier identification code of the customer's IXC among the categories of information that must be provided to the IXC by the LEC. The Commission concludes that knowing the effective date of account changes will help IXCs to maintain accurate customer account information and that including the carrier identification code of the customer's IXC will enable an IXC to verify that it is the proper recipient of the transmitted information.

Paragraph 64.4002(g) of the Commission's rules is modified to make the information categories included in paragraph 64.4002(g) consistent with those included in other LEC notification requirements. Paragraph 64.4002(g) also is modified to require that when a customer changes LECs, but wishes to retain his current PIC, the new LEC must so notify the current PIC so that the current PIC does not erroneously assume, absent additional notification from the new LEC, that the customer also wishes to cancel his current PIC.

Federal Communications Commission.
Marlene H. Dortch,
Secretary.

[FR Doc. E6-18743 Filed 11-7-06; 8:45 am]

BILLING CODE 6712-01-P